DEPARTMENT OF TRANSPORTATION

Federal Railroad Administration

Petition for Waiver of Compliance

In accordance with part 211 of title 49 Code of Federal Regulations (CFR), notice is hereby given that the Federal railroad Administration (FRA) has received a request for a waiver of compliance of certain requirements of its safety regulations. The individual petition is described below, including the party seeking relief, the regulatory provisions involved, the nature of the relief being requested, and the petitioner's arguments in favor of relief.

Norfolk Southern Corporation

[Docket Number FRA-2003-16203]

Norfolk Southern Corporation (NS) seeks to modify existing waiver FRA-2002-11896, which is a conditional waiver of compliance from certain provisions of the Safety Appliances Standards, 49 CFR part 231, and Power Brakes and Drawbars regulations, 49 CFR part 232, concerning the operation of RoadRailer equipment in Triple Crown Service over their railroad system. Specifically, NS requests that FRA modify the existing waiver to incorporate the use of “Railrunner” equipment in its RoadRailer operations.

The “Railrunner” equipment is essentially a set of highway trailer chassis and intermediate and transition rail bogies that allows the transport of ship containers by both highway and rail modes. The ship containers are placed on a highway “Railrunner” chassis at the shipping terminal where they can be transported by highway to a rail terminal. Upon arrival at a rail terminal, the chassis and container combinations are coupled to and made an integral part of a “Railrunner” rail bogie combination. Once the highway “Railrunner” chassis has been converted to rail mode by use of the rail bogies, the “Railrunner” units can then be assembled behind a RoadRailer train for shipment to another terminal on the NS system. NS would introduce the “Railrunner” equipment into their service using existing RoadRailer trains and routes on its system network.

Norfolk Southern requests the following amendments to the existing RoadRailer waiver: (1) The waiver will apply to Norfolk Southern rail operations handling RoadRailer and Railrunner equipment; (2) Interchange of RoadRailer-Railrunner equipment will only be permitted with a railroad that has a comparable waiver to operate the RoadRailer-Railrunner equipment; and (3) RoadRailer-Railrunner equipment will not be handled with conventional railroad rolling equipment and will only be operated in trains consisting exclusively of RoadRailer-Railrunner units.

Interested parties are invited to participate in these proceedings by submitting written views, data, or comments. FRA does not anticipate scheduling a public hearing in connection with these proceedings since the facts do not appear to warrant a hearing. I f any interested party desires an opportunity for oral comment, they should notify the FRA in writing, before the end of the comment period and specify the basis for their request.

All communications concerning these proceedings should identify the appropriate docket number (e.g., Waiver Petition Docket Number FRA-2003-16203) and must be submitted in triplicate to the Docket Clerk, DOT Central Document Management Facility, Room PL-401, Washington, DC 20590-0001. Communications received within 30 days of the date of this notice will be considered by FRA before final action is taken. Comments received after that date will be considered as far as practicable. All written communications concerning these proceedings are available for examination during regular business hours (9a.m-5p.m) at DOT Central Docket Management Facility, Room PL-401 (Plaza Level), 400 Seventh Street, SW., Washington, DC. All documents in the public docket are also available for inspection and copying on the Internet at the docket facility's Web site at http://dms.dot.gov.

Anyone is able to search the electronic form of all comments received into any of our dockets by name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC, on May 19, 2004.
Grady C. Cothen, Jr.,
Acting Associate Administrator for Safety.

[FR Doc. 04-11698 Filed 5-24-04; 8:45 am]

BILLING CODE 4910-06-P